ENVIRONMENTAL PROTECTION AGENCY

[EPA-HQ-OPPT-2010-0618; FRL-8839-5]

Request for Nominations to the National Advisory Committee for the Development of Acute Exposure Guideline Levels for Hazardous Substances

AGENCY: Environmental Protection Agency (EPA).

ACTION: Notice.

SUMMARY: The U.S. Environmental Protection Agency (EPA) invites nominations from a diverse range of qualified candidates to be considered for appointment to the National Advisory Committee for the Development of Acute Exposure Guideline Levels (AEGLs) for Hazardous Substances (NAC/AEGL Committee).

DATES: Nominations should be submitted by November 12, 2010 in order to ensure fullest consideration. It is anticipated that vacancies will be filled by March 2011.

ADDRESSES: Submit all nominations to: Paul S. Tobin, Designated Federal Officer, Office of the Administrator, U.S. Environmental Protection Agency (MC 7403M), 1200 Pennsylvania Avenue, NW., Washington, DC 20460. You may also e-mail nominations to: tobin.paul@epa.gov.

FOR FURTHER INFORMATION CONTACT: For technical information contact: Paul S. Tobin, Designated Federal Officer; U.S. Environmental Protection Agency; 1200 Pennsylvania Ave., NW., Washington, DC 20460-0001; telephone number: (202) 564-8557; e-mail address: tobin.paul@epa.gov.

SUPPLEMENTARY INFORMATION:

I. Background

The NAC/AEGL Committee is a discretionary Federal advisory committee chartered under the Federal Advisory Committee Act (FACA), Public Law 92-463. The NAC/AEGL Committee was established in 1995 with the intent to develop AEGLs for use in chemical emergency programs. An initial priority list of 85 chemicals for AEGL development was published in the Federal Register on May 21, 1997 (62 FR 27734) (FRL-5718-9), and since that time has increased to approximately 300 chemical substances, for which AEGL values are developed and submitted to the National Academies (NAS) for peer review and publication. Additional background information and progress of the NAC/AEGL Committee may be found on its Web site at http://www.epa.ogv/oppt/aeg1.

Members are appointed by the EPA Administrator for 2-year terms with the possibility of reappointment. The NAC/AEGL Committee generally meets two times annually, or as needed and approved by the Designated Federal Officer (DFO). Meetings will generally be held in Washington, DC. Members may serve as Representative Government Employees (Federal members) or Special Government Employees (non Federal members) and EPA may provide reimbursement for travel expenses associated with official government business.

II. Request for Nominations

EPA is seeking nominations from all sectors, including academia, industry, non-governmental organizations, and State, local and Tribal governments. In an effort to obtain nominations of diverse candidates, EPA encourages nominations of women and men of all racial and ethnic groups.

In selecting Committee members, EPA will seek candidates who possess: Extensive professional knowledge of toxicological methodologies and development of human health standards for acute exposure; a demonstrated ability to examine and analyze complicated human health issues with objectivity and integrity; excellent interpersonal as well as oral and written communication skills; and an ability and willingness to participate in a deliberative and collaborative process. In addition, well qualified applicants must be prepared to process a substantial amount of complex and technical information, and have the ability to volunteer approximately 10 to 15 hours per month to the Committee's activities, including participation in teleconference meetings and preparation of text for Committee reports.

III. Process and Deadline for Submitting Nominations

Any interested person or organization may nominate qualified individuals for possible service on the NAC/AEGL Committee in the area of expertise described above. Interested candidates may self-nominate. All nominations must be identified by name, occupation, organization, position, current business address, email address, and daytime telephone number, and must include: (1) A resume detailing relevant experience and professional and educational qualifications of the nominee; and (2) a brief statement (one page or less) describing the nominee's interest in serving on the Committee. Submit all nominations to Paul S. Tobin, Designated Federal Officer (DFO), Office of Chemical Safety and Pollution Prevention, U.S. Environmental Protection Agency (MC: 7403M), 1200 Pennsylvania Avenue, NW., Washington, DC 20460. You may also submit the nomination by e-mail to: tobin.paul@epa.gov. To receive full consideration, nominations should include all of the information requested. Persons having questions about the nominations procedures should contact Paul S. Tobin (DFO) as indicated above in this notice. Nominations should be submitted in time to arrive no later than November 12, 2010.

Selection criteria to be used for panel membership include:

a. Scientific and/or technical expertise, knowledge and experience (primary factors);

b. Availability and willingness to serve;

c. Absence of financial conflicts of interest;

d. Absence of an appearance of a lack of impartiality;

e. Skills working in advisory committees and panels, and

f. Diversity of and balance among scientific expertise and viewpoints.

EPA will evaluate the absence of financial conflicts of interest through the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address: http://www.epo.gov/oppt/aeg1/pubs/ethics.htm.

List of Subjects

Environmental protection, Hazardous substances, NAC/AEGL Committee.

Dated: October 4, 2010.
Wendy C. Hamnett,
Director, Office of Pollution Prevention and Toxics.

[FR Doc. 2010-25567 Filed 10-8-10; 8:45 am]

BILLING CODE 6560-50-P